DEPARTMENT OF ENERGY

Federal Energy Regulatory Commission

[Docket No. RD11-4-000]

Commission Information Collection Activities (FERC-725A); Comment Request; Submitted for OMB Review

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission issued a Notice in the Federal Register (76 FR 23801, 04/28/2011) requesting public comments. FERC received no comments on the FERC-725A and has made this notation in its submission to OMB.

DATES: Comments in consideration of the collection of information are due October 24, 2011.

ADDRESSES: Comments may be filed either electronically (eFiled) or in paper format, and should refer to Docket No. RD11-4-000. Documents must be prepared in an acceptable filing format and in compliance with Commission submission guidelines at: http://www.ferc.gov/help/submission-guide.asp. eFiling instructions are available at: http://www.ferc.gov/docs-filing/efiling.asp. First time users must follow eRegister instructions at: http://www.ferc.gov/docs-filing/eregistration.asp, to establish a username and password before eFiling. The Commission will send an automatic acknowledgement to the sender's e-mail address upon receipt of eFiled comments. Commenters making an eFiling should not make a paper filing. Commenters that are not able to file electronically must send an original of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at http://www.ferc.gov/docs-filing/elibrary.asp, by searching on Docket No. RD11-4-000. For user assistance, contact FERC Online Support by e-mail at ferconlinesupport@ferc.gov, or by phone at: (866) 208-3676 (toll-free), or (202) 502-8659 for TTY.

FOR FURTHER INFORMATION CONTACT: Ellen Brown may be reached by e-mail at DataClearance@FERC.gov, telephone at (202) 502-8663, and fax at (202) 273-0873.

SUPPLEMENTARY INFORMATION: The information collected under the order in Docket No. RD11-4-000 under the requirements of FERC-725A, “Mandatory Reliability Standards for the Bulk-Power System” (OMB No. 1902-0244), is required by Commission-approved Reliability Standard EOP-008-1 (Loss of Control Center Functionality) that requires reliability coordinators, transmission operators, and balancing authorities to have an operating plan and facilities for backup functionality to ensure Bulk-Power System reliability in the event that a control center becomes inoperable. The standard consists of eight requirements.

Requirement R1 requires each applicable entity to have a current operating plan describing the manner in which it will continue to meet its functional obligations in the event that its primary control center functionality is lost. Requirement R2 instructs each applicable entity to have a copy of its current plan for backup functionality at its primary control center and at the location providing backup functionality. Requirement R3 mandates that each reliability coordinator have a backup control center that provides functionality sufficient to maintain compliance with all Reliability Standards that depend on primary control center functionality.

Requirement R4 directs balancing authorities and transmission operators to have a backup functionality, either through a facility or contracted services, to maintain compliance with all Reliability Standards that depend on their primary control center functionality. Requirement R5 requires each applicable entity to review annually and approve its plan for backup functionality. Requirement R6 mandates that primary and backup functionality cannot depend on each other, and Requirement R7 requires each applicable entity to annually test and document the results of its plan demonstrating the transition time between the simulated loss of the primary control center and the full implementation of the backup functionality. Finally, each reliability coordinator, balancing authority or transmission operator that experiences a loss of either primary or backup functionality anticipated to last for more than six months must, in accordance with Requirement R8, provide a plan to its Regional Entity within six calendar months of the date when functionality is lost showing how it will re-establish such functionality.

Rather than creating entirely new obligations with respect to the loss of control center functionality, Reliability Standard EOP-008-1 upgrades existing planning requirements. The standard does not impose entirely new burdens on the effected entities, but it does impose new requirements regarding the approval, placement, documentation and updating of plans as well as requires entities that may not already possess backup functionality to obtain, possibly through contractual arrangements, backup capabilities.

Burden Statement: Public reporting burden resulting from the approval of Reliability Standard EOP-008-1 is estimated as:

Changes to FERC-725A data collection | Number of respondents annually (A) | Number of responses per respondent (B) | Average burden hours per response (C) | Total annual hours ( A × B × C )
Review and possible revision of plan (one-time) | 215 | 1 | 20 | 4,300
Updating, approving, and maintaining records | 215 | 1 | Compliance: 6 Recordkeeping: 2 | 1,290 430
Balancing authorities and transmission operators contracting for backup functionality (one-time) | 27 | 1 | 120 | 3,240
Total one-time |  |  |  | 7,540
Total recurring |  |  |  | 1,720
Total |  |  |  | 9,260

Estimated one-time cost burden to respondents is $904,800; [i.e., 7540 hours @ $120 an hour (compliance cost) for the first year equals $904,800)]. In subsequent years, respondents will incur an estimated cost burden of $166,840; [i.e., (1290 hours @ $120 an hour (compliance cost)) + 430 hours @ $28 an hour (recordkeeping cost) equals $166,840 ¹]. The average annual recurring cost burden per respondent is $776 ($166,840/215 = $776).

¹ The order approving Reliability Standard EOP-008-1 mistakenly used the $120 an hour figure for all the reoccurring hours. This caused an overstatement of the reoccurring cost burden by $39,560 ($206,400 reported in the order minus the corrected figure of $166,840 equals 166,840), because 430 hours should have been calculated at the lower recordkeeping figure of $28 an hour. Additionally, the order approving the standard listed the total recordkeeping cost as $10,240 and it should have been $12,040.

The reporting burden includes the total time, effort, or financial resources expended to generate, maintain, retain, or disclose or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than anyone particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Dated: September 15, 2011 .
Kimberly D. Bose,
Secretary.

[FR Doc. 2011-24304 Filed 9-21-11; 8:45 am]

BILLING CODE 6717-01-P